DEPARTMENT OF COMMERCE

United States Patent and Trademark Office

37 CFR Part 2

RIN 0651-AB00

Trademark Law Treaty Implementation Act Changes; Correction

AGENCY: United States Patent and Trademark Office, Commerce.

ACTION: Final rule; correction.

SUMMARY: The United States Patent and Trademark Office published in the Federal Register of September 8, 1999, (64 FR 48900) a final rule amending its rules to implement the Trademark Law Treaty Implementation Act of 1998, Pub. L. 105-330, 112 Stat. 3064 (15 U.S.C. 1051), and to otherwise simplify and clarify procedures for registering trademarks and for maintaining and renewing trademark registrations. This document corrects an error in one of the amendatory instructions in the final rule.

DATES: Effective on October 30, 1999.

FOR FURTHER INFORMATION CONTACT: Mary Hannon, Office of the Commissioner for Trademarks, by telephone at (703) 308-8910, extension 137; by facsimile transmission addressed to her at (703) 308-9395; or by mail marked to her attention and addressed to the Commissioner for Trademarks, 2900 Crystal Drive, Arlington, Virginia 22202-3513.

SUPPLEMENTARY INFORMATION: The United States Patent and Trademark Office published a final rule in the Federal Register of September 8, 1999 (64 FR 48900) entitled “Trademark Law Treaty Implementation Act Changes.” A correction of this final rule was published in the Federal Register of September 22, 1999 (64 FR 51244). This second correction revises amendatory instruction 35, amending 37 CFR 2.89.

In FR Doc. 99-22957, published on September 8, 1999 (64 FR 48900), make the following corrections:

§ 2.89 [Corrected]

1. On page 48923, in the second column, correct amendatory instruction 35 to read as follows:

35. Amend § 2.89 by revising paragraphs (a), (b), and (d), revising the last two sentences of paragraph (g), and by adding paragraph (h) to read as follows:

Dated: June 5, 2000.
Albin F. Drost,
Acting Solicitor.

[FR Doc. 00-14634 Filed 6-8-00; 8:45 am]

BILLING CODE 3510-16-U